DEPARTMENT OF COMMERCE

National Oceanic and Atmospheric Administration

[RTID 0648-XB953]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application submitted by Full Share Inc. contains all of the required information and warrants further consideration. Regulations under the Magnuson-Stevens Fishery Conservation and Management Act require publication of this notification to provide interested parties the opportunity to comment on applications for proposed Exempted Fishing Permits.

DATES: Comments must be received on or before May 5, 2022.

ADDRESSES: You may submit written comments by the following method:

• Email: nmfs.gar.efp@noaa.gov. Include in the subject line “Finestkind Filming EFP.”

FOR FURTHER INFORMATION CONTACT: Travis Ford, Fishery Policy Analyst, travis.ford@noaa.gov, (978) 281-9233.

SUPPLEMENTARY INFORMATION: Full Share, Inc. submitted a complete application for an EFP to enable filming and documentation of commercial fishing activities for a motion picture, currently titled “Finestkind.” This EFP would exempt the participating vessel from: The minimum shell height requirement at 50 CFR 648.14(i)(2)(i) and 648.50(a); the in-shell possession limit inside vessel monitoring system (VMS) demarcation line at §§ 648.14(i)(2)(iii)(B) and 648.52(e); the crew size restrictions at § 648.51(c); the day-at-sea requirements at § 648.53(b); the requirements of the Northern Gulf of Maine Management Program at § 648.62; and minimum size and possession restrictions for filming in part 648 subparts B and D through O.

Josef Boreland, Marine Coordinator, applied for an EFP on April 1, 2022, on behalf of Full Share Inc., in support of a motion picture, currently titled “Finestkind.” The filming would take place aboard the commercial fishing vessel SANDRA JANE (P: 410430). For the purpose of replicating authentic commercial fishing practices for the motion picture, the F/V SANDRA JANE ¹ would be fishing for scallops off of Gloucester, MA for 4 days in June 2022.

¹ The United States Coast Guard has acknowledged that the name SANDRA JANE will be temporarily replaced with the name FINESTKIND on the vessel for filming. The vessel will not officially have its name changed.

The proposed EFP would allow the vessel to fish for scallops outside of the requirements of its Federal permit for the purpose of filming the motion picture. Fishing would occur for 4 days off of Gloucester, MA to fish scallops in Federal waters of the Gulf of Maine on and around Stellwagen Bank. The fishing vessel will have its normal crew of 7 (including the operator) and an additional 25 film crew onboard. Additional film support vessels will accompany the fishing vessel.

The fishing vessel would capture scallops by towing two 4.57-meter wide New Bedford-style dredges at approximately 5 knots (9.26 km/hr) for 10 minutes per tow, 1 to 2 tows per day. The deployment and haul back of the gear will be filmed. The majority of the catch will be immediately returned to the sea. A portion of the scallop catch may be transported shoreward to more easily film shucking and other processing procedures closer to shore in state waters. The applicant will pursue a letter of authorization from the Massachusetts Department of Marine Fisheries for any necessary exemptions from any state regulations. No catch will be landed for sale.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 15, 2022.
Kelly Denit,
Director, Office of Sustainable Fisheries, National Marine Fisheries Service.

[FR Doc. 2022-08443 Filed 4-19-22; 8:45 am]

BILLING CODE 3510-22-P